ENVIRONMENTAL PROTECTION AGENCY

[Petition No. IX-2013-1; FRL-9919-46-Region 9]

Petition on Clean Air Act Title V Permit; Gateway Generating Station; Antioch, CA

AGENCY: United States Environmental Protection Agency.

ACTION: Notice of final action.

SUMMARY: Pursuant to Clean Air Act (CAA) section 505(b) and 40 CFR 70.8(d), the United States Environmental Protection Agency (EPA) Administrator signed an Order, dated October 15, 2014, denying a petition to object to a CAA title V operating permit proposed by the Bay Area Air Quality Management District (BAAQMD) for the Gateway Generating Station, LLC facility in Antioch, California (Gateway). The Order constitutes a final action on the petition submitted by the Wild Equity Institute (Petitioner) dated September 3, 2013 requesting that the EPA Administrator object to the proposed title V permit for Gateway. Pursuant to section 505(b) of the CAA, a petitioner may seek judicial review in the United States Court of Appeals for the appropriate circuit of those portions of the petition that EPA denied. Any petition for review shall be filed within 60 days from the date this notice appears in the Federal Register, pursuant to section 307 of the CAA.

DATES: The EPA Administrator signed an Order, dated October 15, 2014, denying a petition to object to the CAA title V operating permit proposed by the BAAQMD for Gateway. Pursuant to section 307(b)(1) of the Clean Air Act, 42 U.S.C. 7607(b)(1), judicial review of this final permit decision, to the extent it is available, may be sought by filing a petition for review in the United States Court of Appeals for the Ninth Circuit within 60 days of November 21, 2014.

ADDRESSES: Copies of the Order, the petition, and all pertinent information relating thereto are on file at the following location: EPA Region 9, Air Division, 75 Hawthorne Street, San Francisco, California 94105. EPA requests that if at all possible, you contact the individual listed in the FOR FURTHER INFORMATION CONTACT section to view copies of the final Order, petition, and other supporting information. You may view the hard copies Monday through Friday, from 9 a.m. to 4 p.m., excluding Federal holidays. If you wish to examine these documents, you should make an appointment at least 48 hours before the visiting day. The final Order is also available electronically at the following Web site: http://www.epa.gov/region07/air/title5/petitiondb/petitiondb.htm.

FOR FURTHER INFORMATION CONTACT: Gerardo Rios, Air Permits Office, EPA Region 9, at (415) 972-3974 or rios.gerardo@epa.gov.

SUPPLEMENTARY INFORMATION: The CAA affords the EPA a 45-day period to review and, as appropriate, object to operating permits proposed by state permitting authorities under title V of the CAA, 42 U.S.C. 7661-7661f. Section 505(b)(2) of the CAA and 40 CFR 70.8(d) authorize any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or the grounds for the issues arose after this period.

The Petitioner submitted a petition regarding Gateway dated September 3, 2013, requesting that the EPA object to the proposed CAA title V operating permit for Gateway issued by the BAAQMD, identified as Major Facility Review Permit, Facility #B8143. The Petitioner alleged that the permit was not consistent with CAA title V requirements because the EPA failed to obtain incidental take authorization and take other actions under the Endangered Species Act for “listed species affected by” the facility. The BAAQMD issued a final title V permit for Gateway on October 30, 2013.

On October 15, 2014, the EPA Administrator issued an Order denying the title V petition for Gateway. The Order explains EPA's rationale for denying the petition.

Dated: October 29, 2014.
Jared Blumenfeld,
Regional Administrator, Region IX.

[FR Doc. 2014-27641 Filed 11-20-14; 8:45 am]

BILLING CODE 6560-50-P